ENVIRONMENTAL PROTECTION AGENCY

[EPA-HQ-OEI-2009-0328, FRL-8954-1]

Agency Information Collection Activities; Submission to OMB for Review and Approval; Comment Request; Regulations.gov Information Collection; OMB Control No. 2025-0008, EPA ICR No. 2357.02

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before October 8, 2009.

ADDRESSES: Submit your comments, referencing Docket ID No. EPA-HQ-OEI-2009-0328 to (1) EPA online using http://www.regulations.gov (our preferred method), by e-mail brackett.shanita@epa.gov, or by mail to: EPA Docket Center, Environmental Protection Agency, Office of Environmental Information Docket, mail code 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Shanita Brackett, OEI/OIC/CStD at the Environmental Protection Agency, 1200 Pennsylvania Ave., NW., (MC 2822-T), Washington, DC 20460; telephone number (202) 566-1008; fax Number (202) 566-1611: e-mail address: brackett.shanita@epa.gov.

SUPPLEMENTARY INFORMATION: EPA has submitted the following ICR to OMB for review and approval according to the procedures prescribed in 5 CFR 1320.12. On May 26, 2009 (74 FR 24849), EPA sought comments on this ICR pursuant to 5 CFR 1320.8(d). EPA received no comments. Any additional comments on this ICR should be submitted to EPA and OMB within 30 days of this notice.

EPA has established a public docket for this ICR under Docket ID No. EPA-HQ-OEI-2009-0328, which is available for online viewing at http://www.regulations.gov, or in person viewing at the Office of Environmental Information Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Environmental Information Docket is 202-566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Regulations.gov Information Collection.

ICR numbers: EPA ICR No. 2357.02, OMB Control No. 2025-0008.

ICR Status: This ICR is scheduled to expire on November 30, 2009. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: In response to the Presidential memorandum, the eRulemaking Program launched the Regulations.gov ‘feedback exchange’ Web site in May 2009. This interactive Web site will showcase new technologies being considered for Regulations.gov. The `feedback exchange' will serve as a learning laboratory for open government, enabling the public to provide input on the Regulations.gov interface, build a community of practice on the Federal regulatory development process, and ensure that the eRulemaking Program can efficiently manage federal resources by testing new tools before they are launched.

The Regulations.gov ‘feedback exchange’ Web site will provide the public with a preview of new technologies considered for Regulations.gov. It will also enable the public to provide feedback on these technologies. Technologies considered for the Regulations.gov ‘feedback exchange’ include: User Profiles; Comment Threads and Wikis; Ratings, Polls, and Tagging; an interactive Educational Tool; and an Information Export capability. These technologies will be deployed iteratively, with components deployed upon the site's release in May 2009 and during subsequent upgrades to the Web site. User profiles enable the public to register on the site and pre-load submitter information for later use as well as save their own personalized searches, RSS feeds, and e-mail alerts without the use of persistent cookies. Comment Threads allow the public to enter into virtual conversations with one another about a topic. Wikis enable the public to collaboratively develop and modify narrative descriptions about a topic. Ratings and Polls allow the public to indicate a preference for a topic or issue via the selection of stars or thumbs up/thumbs down icons which graphically provide an at-a-glance indication of public sentiment and can simplify navigation. Tagging provides the public with the ability to tag or label information they or someone else has posted to the site to ease navigation and to promote the formation of common interest categories. The Educational Tool will inform the public about the Federal rulemaking process through interactive text and images. The Data Export capability enables the public to download and review the contents of a rulemaking docket as well as mix and match such information with other information in a new way (also known as a “mash-up”). The Regulations.gov ‘feedback exchange’ will rely on voluntary feedback from Government, Industry, Academia and Citizenry to improve Regulations.gov as time goes on.

Burden Statement: The annual public reporting and recordkeeping burden for this collection of information is estimated to average 35 hours per year. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Anyone who chooses to visit Regulations.gov.

Estimated Number of Respondents: 1000.

Frequency of Response: Occasionally.

Estimated Total Annual Hour Burden: 35 hours.

Estimated Capital or Operations & Maintenance Annual Costs: $0.

Changes in the Estimates: There is no change in the total estimated burden currently identified in the OMB Inventory of Approved ICR Burdens.

Dated: September 1, 2009.
John Moses,
Director, Collection Strategies Division.

[FR Doc. E9-21548 Filed 9-4-09; 8:45 am]

BILLING CODE 6560-50-P